DEPARTMENT OF TRANSPORTATION

Federal Aviation Administration

14 CFR Part 39

[Docket No. FAA-2023-0009; Project Identifier MCAI-2022-00789-T]

RIN 2120-AA64

Airworthiness Directives; Airbus SAS Airplanes

AGENCY: Federal Aviation Administration (FAA), DOT.

ACTION: Supplemental notice of proposed rulemaking (SNPRM).

SUMMARY: The FAA is revising a notice of proposed rulemaking (NPRM) that would have applied to certain Airbus SAS Model A319-115 airplanes; Model A320-214, -216, -232, -251N, and -271N airplanes; and Model A321-211, -231, -251N, -251NX, -252NX, -253N, -253NX, -271N, -271NX, and -272N airplanes. This action revises the NPRM by adding Model A321-213 airplanes, which were inadvertently left out of the applicability. The FAA is proposing this airworthiness directive (AD) to address the unsafe condition on these products. Since these actions would impose an additional burden over those in the NPRM, the FAA is requesting comments on this SNPRM.

DATES: The FAA must receive comments on this SNPRM by October 10, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-0009; or in person at Docket Operations between 9 a.m. and 5 p.m., Monday through Friday, except Federal holidays. The AD docket contains the NPRM, this SNPRM, the mandatory continuing airworthiness information (MCAI), any comments received, and other information. The street address for Docket Operations is listed above.

Material Incorporated by Reference:

• For European Union Aviation Safety Agency (EASA) material that is proposed for incorporation by reference (IBR) in this SNPRM, contact EASA, Konrad-Adenauer-Ufer 3, 50668 Cologne, Germany; telephone +49 221 8999 000; email ADs@easa.europa.eu; website easa.europa.eu. You may find this material on the EASA website at ad.easa.europa.eu. It is also available at regulations.gov under Docket No. FAA-2023-0009.

• You may view this service information at the FAA, Airworthiness Products Section, Operational Safety Branch, 2200 South 216th St., Des Moines, WA. For information on the availability of this material at the FAA, call 206-231-3195.

FOR FURTHER INFORMATION CONTACT: Timothy P. Dowling, Aviation Safety Engineer, FAA, 1600 Stewart Avenue, Suite 410, Westbury, NY 11590; phone: 206-231-3667; email timothy.p.dowling@faa.gov.

SUPPLEMENTARY INFORMATION:

Comments Invited

The FAA invites you to send any written relevant data, views, or arguments about this proposal. Send your comments to an address listed under ADDRESSES. Include “Docket No. FAA-2023-0009; Project Identifier MCAI-2022-00789-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this SNPRM.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Timothy P. Dowling, Aviation Safety Engineer, FAA, 1600 Stewart Avenue, Suite 410, Westbury, NY 11590; phone: 206-231-3667; email timothy.p.dowling@faa.gov. Any commentary that the FAA receives which is not specifically designated as CBI will be placed in the public docket for this rulemaking.

Background

The FAA issued AD 2020-05-16, Amendment 39-19866 (85 FR 15938, March 20, 2020) (AD 2020-05-16) for certain Airbus SAS Model A319-115 airplanes; Model A320-214, -216, -232, -251N, and -271N airplanes; and Model A321-211, -231, -251N, -251NX, -253N, -271N, -271NX, and -272N airplanes. AD 2020-05-16 requires a one-time detailed inspection of certain attaching points on the left-hand and right-hand wings for the correct installation of certain hardware, and, depending on findings, accomplishment of applicable corrective actions. The FAA issued AD 2020-05-16 to address incomplete installations of the over wing panel lug attachments in the production assembly line, which, if not detected and corrected, could reduce the structural integrity of the wing.

The FAA issued an NPRM to amend 14 CFR part 39 by adding an AD to supersede AD 2020-05-16 that would apply to certain Airbus SAS Model A319-115 airplanes; Model A320-214, -216, -232, -251N, and -271N airplanes; and Model A321-211, -231, -251N, -251NX, -252NX, -253N, -253NX, -271N, -271NX, and -272N airplanes. The NPRM published in the Federal Register on January 13, 2023 (88 FR 2273). The NPRM was prompted by MCAI originated by EASA, which is the Technical Agent for the Member States of the European Union. EASA issued AD 2022-0111, dated June 15, 2022 (EASA AD 2022-0111) (also referred to as the MCAI) to correct an unsafe condition identified as incomplete installations of the overwing panel lug attachments. The NPRM proposed to continue to require the actions in AD 2020-05-16 and to revise the applicability by adding airplanes.

Actions Since the NPRM Was Issued

Since the FAA issued the NPRM, it was determined that although the serial numbers of the affected airplanes appear in Appendix 1 of EASA AD 2022-0111, Model A321-213 airplanes were inadvertently left out of the applicability of EASA AD 2022-0111. EASA has since revised AD 2022-0111. EASA AD 2022-0111R1, dated July 26, 2023 (EASA AD 2022-0111R1), was issued because some reports highlighted the omission in the Applicability of Model A321-213 airplanes, whereas the MSNs relevant to this model were correctly listed in Appendix 1 of EASA AD 2022-0111 (among Group 1 aeroplanes). Consequently, EASA AD 2022-0111R1 includes Model A321-213 airplanes in the Applicability. Paragraph (c) of this proposed AD was therefore revised to include Model A321-213 airplanes to match the applicability of EASA AD 2022-0111R1.

You may examine the MCAI in the AD docket at regulations.gov under Docket No. FAA-2023-0009.

Comments

The FAA received a comment from Air Line Pilots Association, International (ALPA) who supported the NPRM without change.

The FAA received additional comments from Delta Air Lines (DAL). The following presents the comments received on the NPRM and the FAA's response to each comment.

Request To Add Exception To Correct Reference to Required Procedure

DAL requested that an exception be added to the proposed AD to change the structural repair manual (SRM) reference specified in paragraphs C.(2)(b)3.a and C.(4)(b)3.a of the Accomplishment Instructions of Airbus Service Bulletin A320-57-1234, dated December 13, 2021, from SRM 51-11-13 to SRM 51-11-00. DAL stated that SRM task 51-11-13 details the process for damage reporting, while SRM task 51-11-00 details the process for classifying damage, which is the required task.

The FAA does not agree with the requested change because SRM 51-11-13 references SRM 51-11-00, which includes the damage assessment procedure. This proposed AD has not been changed regarding this request.

Request To Add Exception To Allow Compliance Based on Alternate Inspection for Certain Airplanes

DAL requested that an exception be added to allow compliance to be taken for any Group 2 airplanes that have already been inspected using Airbus Alert Operators Transmission (AOT) A57N012-19 Rev 01, dated April 18, 2019. DAL stated that the inspection specified in Airbus AOT A57N012-19 Rev 01, dated April 18, 2019, is identical to the inspection specified in Airbus Service Bulletin (SB) A320-57-1234, dated December 13, 2021.

The FAA does not agree with this request. If the inspection procedure provided in Airbus AOT A57N012-19 Rev 01, dated April 18, 2019, is the same as the required procedures in the Airbus SB A320-57-1234, dated December 13, 2021, then accomplishing its procedure would be the same as accomplishing procedures of the SB, therefore it meets the mandatory action requirements of the AD. This proposed AD has not been changed regarding this request.

Request To Add Compliance Time Grace Period for Certain Airplanes

DAL requested that the proposed AD include a compliance time grace period of 6 months for the required actions specified in paragraph (2) of EASA AD 2022-0111 because several airplanes will be immediately out of compliance on the effective date of the AD. DAL noted that EASA AD 2022-0111 does not include any grace period for Group 2 airplanes and that operators will require a grace period to update their documentation and process to show compliance with the FAA AD.

The FAA agrees with changing the requested grace period to prevent grounding of airplanes that have exceeded the maximum flight hours or flight cycles. Paragraph (h)(5) of the proposed AD (in the NPRM) included a 30-day grace period. However, a 6-month grace period would be necessary to prevent the grounding of the airplanes that have already exceeded 14,000 flight hours or 7,000 flight cycles, whichever occurs first. Paragraph (h)(5) of this proposed AD has been changed to specify a 6-month grace period. (Paragraph (2) of EASA AD 2022-0111R1 does not include a grace period.)

Request To Add a Certain Model to the Applicability

DAL requested that Airbus SAS Model A321-213 airplanes be added to the applicability of the proposed AD because some of the serial numbers listed in the appendix of the MCAI are Airbus SAS Model A321-213 airplanes, although that model does not appear in the Applicability section of the MCAI.

The FAA agrees to add Airbus SAS Model A321-213 airplanes to the applicability of this proposed AD. As stated previously, EASA AD 2022-0111R1 was issued to correct the Applicability to include Model A321-213 airplanes. Therefore, Airbus SAS Model A321-213 airplanes have been added to paragraph (c) of this proposed AD.

Related Service Information Under 1 CFR Part 51

EASA AD 2022-0111R1 specifies procedures for a one-time detailed inspection of certain attaching points on the left-hand and right-hand wings for the correct installation of certain hardware (bolt, nut, washer, and cotter pin), and, depending on findings, accomplishment of applicable corrective actions. Corrective actions include installing missing hardware, properly orienting hardware, and performing a damage assessment for cracks and deformed parts in the event of missing hardware, and repair. For certain airplanes, EASA AD 2022-0111R1 also specifies reporting the inspection results to Airbus. This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this SNPRM after determining that the unsafe condition described previously is likely to exist or develop in other products of the same type design.

Certain changes described above expand the scope of the NPRM. As a result, it is necessary to reopen the comment period to provide additional opportunity for the public to comment on this SNPRM.

Proposed AD Requirements in This SNPRM

This proposed AD would retain all requirements of AD 2020-05-16. This proposed AD would require accomplishing the actions specified in EASA AD 2022-0111R1 described previously, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2022-0111R1 by reference in the FAA final rule. This proposed AD would, therefore, require compliance with EASA AD 2022-0111R1 in its entirety through that incorporation, except for any differences identified as exceptions in the regulatory text of this proposed AD. Using common terms that are the same as the heading of a particular section in EASA AD 2022-0111R1 does not mean that operators need comply only with that section. For example, where the AD requirement refers to “all required actions and compliance times,” compliance with this AD requirement is not limited to the section titled “Required Action(s) and Compliance Time(s)” in EASA AD 2022-0111R1. Service information required by EASA AD 2022-0111R1 for compliance will be available at regulations.gov under Docket No. FAA-2023-0009 after the FAA final rule is published.

Costs of Compliance

The FAA estimates that this AD, if adopted as proposed, would affect 131 airplanes of U.S. registry. The FAA estimates the following costs to comply with this proposed AD:

Estimated Costs for Required Actions *
Labor cost | Parts cost | Cost per product | Cost on U.S. operators
2 work-hours × $85 per hour = $170 | $0 | $170 | $22,700
* Table does not include estimated costs for reporting.

The FAA estimates that it would take about 1 work-hour per product to comply with the reporting requirement in this proposed AD. The average labor rate is $85 per hour. Based on these figures, the FAA estimates the cost of reporting the inspection results on U.S. operators to be up to $11,135, or $85 per product.

The FAA estimates the following costs to do any necessary on-condition actions that would be required based on the results of any required actions. The FAA has no way of determining the number of aircraft that might need these on-condition actions:

Estimated Costs of On-Condition Actions
Labor cost | Parts cost | Cost per product
Up to 20 work-hours × $85 per hour = $1,700 | Up to $77,850 | Up to $79,550.

Paperwork Reduction Act

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-05-16, Amendment 39-19866 (85 FR 15938, March 20, 2020); and

b. Adding the following new AD:

Airbus SAS: Docket No. FAA-2023-0009; Project Identifier MCAI-2022-00789-T.

(a) Comments Due Date

The FAA must receive comments on this airworthiness directive (AD) by October 10, 2023.

(b) Affected ADs

This AD replaces AD 2020-05-16, Amendment 39-19866 (85 FR 15938, March 20, 2020) (AD 2020-05-16).

(c) Applicability

This AD applies to the Airbus SAS airplanes specified in paragraphs (c)(1) through (3) of this AD, certificated in any category, as identified in European Union Aviation Safety Agency (EASA) AD 2022-0111R1, dated July 26, 2023 (EASA AD 2022-0111R1).

(1) Model A319-115 airplanes.

(2) Model A320-214, -216, -232, -251N, and -271N airplanes.

(3) Model A321-211, -213, -231, -251N, -251NX, -252NX, -253N, -253NX, -271N, -271NX, and -272N airplanes.

(d) Subject

Air Transport Association (ATA) of America Code 57, Wings.

(e) Unsafe Condition

This AD was prompted by reports of incomplete installations of the over wing panel lug attachments in the production assembly line and a determination that additional airplanes are subject to the unsafe condition. The FAA is issuing this AD to address these incomplete installations. The unsafe condition, if not addressed, could result in reduced structural integrity of the wing.

(f) Compliance

Comply with this AD within the compliance times specified, unless already done.

(g) Requirements

Except as specified in paragraph (h) of this AD: Comply with all required actions and compliance times specified in, and in accordance with, EASA AD 2022-0111R1.

(h) Exceptions to EASA AD 2022-0111R1

(1) Where EASA AD 2022-0111R1 refers to its effective date, this AD requires using the effective date of this AD.

(2) Where EASA AD 2022-0111R1 refers to October 2, 2019 (the effective date of EASA AD 2019-0233, dated September 18, 2019), this AD requires using April 24, 2022 (the effective date of AD 2020-05-16).

(3) Where paragraph (5) of EASA AD 2022-0111R1 specifies to “or contact Airbus for approved instructions, and within the compliance time identified therein, accomplish those instructions accordingly” this AD requires replacing those words with “or contact Airbus for approved instructions, and within the compliance time identified therein, accomplish those instructions accordingly, except if any cracking is detected, the cracking must be repaired before further flight using a method approved by the Manager, International Validation Branch, FAA; or EASA; or Airbus SAS's EASA Design Organization Approval (DOA). If approved by the DOA, the approval must include the DOA-authorized signature.”

(4) This AD does not adopt the “Remarks” section of EASA AD 2022-0111R1.

(5) Where paragraph (2) of EASA AD specifies a compliance time of “before exceeding 14,000 flight hours or 7,000 flight cycles, whichever occurs first since aeroplane first flight,” this AD requires replacing those words with “before exceeding 14,000 flight hours or 7,000 flight cycles, whichever occurs first since airplane first flight; or within 6 months after the effective date of this AD; whichever occurs later.”

(i) No Reporting Requirement for Certain Airplanes

For Group 1 airplanes, as identified in EASA AD 2022-0111R1, this AD does not require reporting.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov.

(i) Before using any approved AMOC, notify your appropriate principal inspector, or lacking a principal inspector, the manager of the responsible Flight Standards Office.

(ii) AMOCs approved previously for AD 2020-05-16 are approved as AMOCs for the corresponding provisions of EASA AD 2022-0111R1 that are required by paragraph (g) of this AD.

(2) Contacting the Manufacturer: For any requirement in this AD to obtain instructions from a manufacturer, the instructions must be accomplished using a method approved by the Manager, International Validation Branch, FAA; or EASA; or Airbus SAS's EASA DOA. If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Timothy P. Dowling, Aviation Safety Engineer, FAA, 1600 Stewart Avenue, Suite 410, Westbury, NY 11590; phone: 206-231-3667; email timothy.p.dowling@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2022-0111R1, dated July 26, 2023.

(ii) [Reserved]

(3) For EASA AD 2022-0111R1, contact EASA, Konrad-Adenauer-Ufer 3, 50668 Cologne, Germany; telephone +49 221 8999 000; email ADs@easa.europa.eu; website easa.europa.eu. You may find this EASA AD on the EASA website at ad.easa.europa.eu.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on August 11, 2023.
Victor Wicklund,
Deputy Director, Compliance & Airworthiness Division, Aircraft Certification Service.

[FR Doc. 2023-17773 Filed 8-24-23; 8:45 am]

BILLING CODE 4910-13-P